DEPARTMENT OF TRANSPORTATION

Federal Aviation Administration

14 CFR Part 39

[Docket No. FAA-2018-0238; Product Identifier 2018-SW-018-AD; Amendment 39-19265; AD 2018-06-51]

RIN 2120-AA64

Airworthiness Directives; Agusta S.p.A. Helicopters

AGENCY: Federal Aviation Administration (FAA), DOT.

ACTION: Final rule; request for comments.

SUMMARY: We are publishing a new airworthiness directive (AD) for Agusta S.p.A. Model A109A, A109A II, A109C, A109E, A109K2, A109S, A119, AW109SP, and AW119 MKII helicopters. This AD requires removing a certain swashplate support (support) from service. This AD is prompted by an error in a parts catalog incorrectly identifying the support as approved for installation on Model AW109SP helicopters. We are issuing this AD to address the unsafe condition on these products.

DATES: This AD becomes effective June 7, 2018 to all persons except those persons to whom it was made immediately effective by Emergency AD 2018-06-51, issued on March 19, 2018, which contains the requirements of this AD.

We must receive comments on this AD by July 23, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2018-0238; or in person at Docket Operations between 9 a.m. and 5 p.m., Monday through Friday, except Federal holidays. The AD docket contains this AD, the European Aviation Safety Agency (EASA) AD, the economic evaluation, any comments received, and other information. The street address for Docket Operations (telephone 800-647-5527) is in the ADDRESSES section. Comments will be available in the AD docket shortly after receipt.

For service information identified in this final rule, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review the referenced service information at the FAA, Office of the Regional Counsel, Southwest Region, 10101 Hillwood Pkwy., Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On March 19, 2018, we issued Emergency AD 2018-06-51 to address an unsafe condition on Agusta S.p.A. Model A109A, A109A II, A109C, A109E, A109K2, A109S, A119, AW109SP, and AW119 MKII helicopters with a support part number (P/N) 109-0110-05-101 installed. Emergency AD 2018-06-51 was sent previously to all known U.S. owners and operators of these helicopters. Emergency AD 2018-06-51 requires removing the supports from service and re-identifying spherical sleeve assembly (sleeve) P/N 109-0134-02-103.

Emergency AD 2018-06-51 was prompted by an error in a parts catalog that incorrectly identifies support P/N 109-0110-05-101 as approved for installation on Model AW109SP helicopters. Support P/N 109-0110-05-101 is made of aluminum alloy and is approved for installation on Model A109A, A109A II, A109C, A109E, A109K2, A109S, A119, and AW119 MKII helicopters, but is not approved for installation on Model AW109SP helicopters. The approved support for Model AW109SP helicopters is made of steel. This condition, if not corrected, could result in failure of the support and subsequent loss of control of the helicopter.

EASA, which is the Technical Agent for the Member States of the European Union, issued AD No. No. 2018-0053-E, dated March 8, 2018, to correct an unsafe condition for Leonardo S.p.A. Helicopters (previously Agusta S.p.A.) Model AW109SP helicopters. The EASA AD advises that support P/N 109-0110-05-101, which is not eligible for installation on Model AW109SP helicopters, was erroneously listed in the Model AW109SP parts catalog. EASA states that this may have led to inadvertent installations of the support in service on a Model AW109SP helicopter. The EASA AD requires replacing the support and re-identifying the P/N on the identification plate of the sleeve if the P/N is not P/N 109-0134-02-105. Sleeve P/N 109-0134-02-105 is composed of the steel support. The EASA AD also prohibits installing the support on any Model AW109SP helicopter. EASA states that its AD actions are intended to prevent failure of the support, which could result in loss of control of the helicopter.

The FAA is in the process of updating Agusta S.p.A.'s name change to Leonardo S.p.A. on its FAA type certificate. Because this name change is not yet effective, this AD specifies Agusta S.p.A. as the type certificate holder.

FAA's Determination

These helicopters have been approved by the aviation authority of Italy and are approved for operation in the United States. Pursuant to our bilateral agreement with Italy, EASA, its technical representative, has notified us of the unsafe condition described in the EASA AD. We are issuing this AD because we evaluated all the information provided by EASA and determined the unsafe condition exists and is likely to exist or develop on other helicopters of these same type designs.

Related Service Information

We reviewed Leonardo Helicopters Emergency Alert Service Bulletin No. 109SP-119, dated March 7, 2018. This service information specifies replacing support P/N 109-0110-05-101 with support P/N 109-0134-29-101. This service information also specifies inspecting the sleeve identification plate and depending on the findings, replacing and re-identifying the identification plate.

AD Requirements

This AD requires removing support P/N 109-0110-05-101 from service that is or has been installed on a Model AW109SP helicopter. If sleeve P/N 109-0134-02-103 is installed, this AD requires re-identifying the P/N of the sleeve on Model AW109SP helicopters. This AD also prohibits installing support P/N 109-0110-05-101 on any Model AW109SP helicopter.

Differences Between This AD and the EASA AD

This AD requires removing a support installed on a Model AW109SP helicopter from service before further flight, while the compliance time in the EASA AD depends on the flight hours of the support. This AD applies to Model A109A, A109A II, A109C, A109E, A109K2, A109S, A119, and AW119 MKII helicopters and requires removing the support installed on these models from service if previously installed on a Model AW109SP helicopter. The EASA AD does not apply to these models or contain this requirement for supports previously installed on a Model AW109SP helicopter.

Costs of Compliance

We estimate that this AD affects 266 helicopters of U.S. Registry. We estimate that operators may incur the following costs in order to comply with this AD. Labor costs are estimated at $85 per work-hour.

Replacing a support takes about 10 work-hours and parts cost about $6,288 for an estimated cost of $7,138 per helicopter. Re-identifying a sleeve identification plate takes about 0.5 work-hour and the parts cost is minimal for an estimated cost of $43 per helicopter.

According to Leonardo Helicopter's service information, some of the costs of this AD may be covered under warranty, thereby reducing the cost impact on affected individuals. We do not control warranty coverage by Leonardo Helicopters. Accordingly, we have included all costs in our cost estimate.

FAA's Justification and Determination of the Effective Date

An unsafe condition exists that required the immediate adoption of Emergency AD 2018-06-51, issued on March 19, 2018, to all known U.S. owners and operators of these helicopters. The FAA found that the risk to the flying public justified waiving notice and comment prior to adoption of this rule because the required corrective actions must be accomplished before further flight or within 5 hours time-in-service, depending on the model helicopter. These conditions still exist and the AD is hereby published in the Federal Register as an amendment to section 39.13 of the Federal Aviation Regulations (14 CFR 39.13) to make it effective to all persons. Therefore, we find good cause that notice and opportunity for prior public comment are impracticable. In addition, for the reason stated above, we find that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-06-51 Agusta S.p.A.: Amendment 39-19265; Docket No. FAA-2018-0238; Product Identifier 2018-SW-018-AD.

(a) Applicability

This AD applies to Model A109A, A109A II, A109C, A109E, A109K2, A109S, A119, AW109SP, and AW119 MKII helicopters, certificated in any category, with a swashplate support (support) part number (P/N) 109-0110-05-101 installed.

(b) Unsafe Condition

This AD defines the unsafe condition as installation of a support that does not meet type design. This condition could result in failure of a support and subsequent loss of control of the helicopter.

(c) Effective Date

This AD becomes effective June 7, 2018 to all persons except those persons to whom it was made immediately effective by Emergency AD 2018-06-51, issued on March 19, 2018, which contains the requirements of this AD.

(d) Compliance

You are responsible for performing each action required by this AD within the specified compliance time unless it has already been accomplished prior to that time.

(e) Required Actions

(1) For Model AW109SP helicopters, before further flight:

(i) Remove the support from service.

(ii) If spherical sleeve assembly (sleeve) P/N 109-0134-02-103 is installed, re-identify the sleeve by permanently changing the P/N on the identification plate to P/N 109-0134-02-105.

(2) For Model A109A, A109A II, A109C, A109E, A109K2, A109S, A119, and AW119 MKII helicopters, within 5 hours time-in-service, remove support P/N 109-0110-05-101 from service if it has ever been installed on a Model AW109SP helicopter.

(3) After the effective date of this AD, do not install support P/N 109-0110-05-101 on any Model AW109SP helicopter.

(f) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Leonardo Helicopters Emergency Alert Service Bulletin No. 109SP-119, dated March 7, 2018, which is not incorporated by reference, contains additional information about the subject of this AD. For service information identified in this AD, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review a copy of the service information at the FAA, Office of the Regional Counsel, Southwest Region, 10101 Hillwood Pkwy., Room 6N-321, Fort Worth, TX 76177.

(2) The subject of this AD is addressed in European Aviation Safety Agency (EASA) AD No. 2018-0053-E, dated March 8, 2018. You may view the EASA AD on the internet at http://www.regulations.gov by searching for and locating it in Docket No. FAA-2018-0238.

(h) Subject

Joint Aircraft Service Component (JASC) Code: 6230, Main Rotor Mast/Swashplate.

Issued in Fort Worth, Texas, on May 11, 2018.
Scott A. Horn,
Deputy Director for Regulatory Operations, Compliance & Airworthiness Division, Aircraft Certification Service.

[FR Doc. 2018-10922 Filed 5-22-18; 8:45 am]

BILLING CODE 4910-13-P